CONSUMER FINANCIAL PROTECTION BUREAU

[Docket No. CFPB-2025-0027]

Agency Information Collection Activities: Comment Request

AGENCY: Consumer Financial Protection Bureau.

ACTION: Notice and request for comment.

SUMMARY: In accordance with the Paperwork Reduction Act of 1995 (PRA), the Consumer Financial Protection Bureau (CFPB) requests the Office of Management and Budget's (OMB's) extension of the existing information collection titled “Consumer Complaint Intake System Company Portal Boarding Form” approved under OMB Control Number 3170-0054.

DATES: Written comments are encouraged and must be received on or before July 21, 2025 to be assured of consideration.

ADDRESSES: You may submit comments, identified by the title of the information collection, OMB Control Number (see below), and docket number (see above), by any of the following methods:

• Federal eRulemaking Portal: http://www.regulations.gov. Follow the instructions for submitting comments.

• Email: CFPB_PRA@cfpb.gov. Include Docket No. CFPB-2025-0027 in the subject line of the email.

• Mail/Hand Delivery/Courier: Comment Intake, Consumer Financial Protection Bureau (Attention: PRA Office), 1700 G Street NW, Washington, DC 20552. Because paper mail in the Washington, DC area and at the CFPB is subject to delay, commenters are encouraged to submit comments electronically.

Please note that comments submitted after the comment period will not be accepted. In general, all comments received will become public records, including any personal information provided. Sensitive personal information, such as account numbers or Social Security numbers, should not be included.

FOR FURTHER INFORMATION CONTACT: Requests for additional information should be directed to Anthony May, PRA Officer, at (304) 481-5511, or email: CFPB_PRA@cfpb.gov. If you require this document in an alternative electronic format, please contact CFPB_Accessibility@cfpb.gov. Please do not submit comments to these email boxes.

SUPPLEMENTARY INFORMATION:

Title of Collection: Consumer Complaint Intake System Company Portal Boarding Form.

OMB Control Number: 3170-0054.

Type of Review: Extension of a currently approved information collection.

Affected Public: Private sector.

Estimated Number of Respondents: 400.

Estimated Total Annual Burden Hours: 85.

Abstract: Section 1013(b)(3)(A) of the Dodd-Frank Wall Street Reform and Consumer Protection Act (Dodd-Frank Act), Public Law 111-203, requires the CFPB to “facilitate the centralized collection of, monitoring of, and response to consumer complaints regarding consumer financial products or services.” ¹ In furtherance of its statutory mandates related to consumer complaints, the CFPB utilizes a Consumer Complaint Intake System Company Portal Boarding Form (Boarding Form) to sign up companies for access to the secure, web-based Company Portal (Company Portal). The Company Portal allows companies to view and respond to complaints submitted to the CFPB, supports the efficient routing of consumer complaints to companies, and enables a timely and secure response by companies to the CFPB and consumers.²

¹ Codified at 12 U.S.C. 5493(b)(3)(A). See also Dodd-Frank Act, section 1034 (discussing responses to consumer complaints), codified at 12 U.S.C. 5534; section 1021(c)(2) (noting that one of the CFPB's primary functions is “collecting, investigating, and responding to consumer complaints”), codified at 12 U.S.C. 5511(c)(2).

² In addition to the Boarding Form for companies, the CFPB utilizes separate OMB-approved forms to board government agencies and congressional offices onto their own distinct portals to access certain complaint information through OMB Control Number 3170-0057 (Consumer Response Government and Congressional Boarding Forms; expires 12/31/2027).

Request for Comments: Comments are invited on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB's approval. All comments will become a matter of public record.

Anthony May,
Paperwork Reduction Act Officer, Consumer Financial Protection Bureau.

[FR Doc. 2025-09226 Filed 5-21-25; 8:45 am]

BILLING CODE 4810-AM-P